SMALL BUSINESS ADMINISTRATION

[Disaster Declaration #15678; Florida Disaster Number FL-00139 Declaration of Economic Injury]

Administrative Declaration of an Economic Injury Disaster for the State of Florida

AGENCY: U.S. Small Business Administration.

ACTION: Notice.

SUMMARY: This is a notice of an Economic Injury Disaster Loan (EIDL) declaration for the State of Florida, dated 09/04/2018.

Incident: Toxic Algal Blooms.

Incident Period: 06/01/2018 and continuing.

DATES: Issued on 09/04/2018.

Economic Injury (EIDL) Loan Application Deadline Date: 06/04/2019.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Lee, Martin

Contiguous Counties:

Florida: Charlotte, Collier, Glades, Hendry, Okeechobee, Palm Beach, Saint Lucie

The Interest Rates are:

| Percent
Businesses and Small Agricultural Cooperatives Without Credit Available Elsewhere | 3.610
Non-Profit Organizations Without Credit Available Elsewhere | 2.500

The number assigned to this disaster for economic injury is 156780.

The State which received an EIDL Declaration # is FLORIDA.

(Catalog of Federal Domestic Assistance Number 59008)

Dated: September 4, 2018.
Linda E. McMahon,
Administrator.

[FR Doc. 2018-19981 Filed 9-13-18; 8:45 am]

BILLING CODE 8025-01-P